DEPARTMENT OF COMMERCE

International Trade Administration

[A-580-895, A-583-861]

Low Melt Polyester Staple Fiber From the Republic of Korea and Taiwan: Antidumping Duty Orders

AGENCY: Enforcement and Compliance, International Trade Administration, Department of Commerce.

SUMMARY: Based on affirmative final determinations by the Department of Commerce (Commerce) and the International Trade Commission (ITC), Commerce is issuing antidumping duty (AD) orders on low melt polyester staple fiber (low melt PSF) from the Republic of Korea (Korea) and Taiwan.

DATES: Applicable August 16, 2018.

FOR FURTHER INFORMATION CONTACT: Alice Maldonado at (202) 482-4682 or Brittany Bauer at (202) 482-3860 (Korea); Rebecca Janz at (202) 482-2972 or Ajay Menon at (202) 482-1993 (Taiwan); AD/CVD Operations, Office II, Enforcement and Compliance, International Trade Administration, U.S. Department of Commerce, 1401 Constitution Avenue NW, Washington, DC 20230.

SUPPLEMENTARY INFORMATION:

Background

In accordance with sections 735(d) and 777(i)(1) of the Tariff Act of 1930, as amended (the Act), and 19 CFR 351.210(c), on June 22, 2018, Commerce published its affirmative final determinations in the less-than-fair-value (LTFV) investigations of low melt PSF from Korea and Taiwan.¹ On August 6, 2018, the ITC notified Commerce of its affirmative determinations that an industry in the United States is materially injured within the meaning of section 735(b)(1)(A)(i) of the Act, by reason of the LTFV imports of low melt PSF from Korea and Taiwan, and its determination that critical circumstances do not exist with respect to imports of low melt PSF from Korea subject to Commerce's affirmative critical circumstances determination.²

¹ See Low Melt Polyester Staple Fiber from the Republic of Korea: Final Determination of Sales at Less Than Fair Value and Final Affirmative Determination of Critical Circumstances, in Part, 83 FR 29094 (June 22, 2018) (Korea Final Determination); and Low Melt Polyester Staple Fiber from Taiwan: Final Determination of Sales at Less Than Fair Value, 83 FR 29099 (June 22, 2018).

² See Letter from the ITC to the Hon. Gary Taverman, dated August 6, 2018. See also Low Melt Polyester Staple Fiber from Korea and Taiwan, 83 FR 39461 (August 9, 2018).

Scope of the Orders

The merchandise subject to these orders is synthetic staple fibers, not carded or combed, specifically bi-component polyester fibers having a polyester fiber component that melts at a lower temperature than the other polyester fiber component (low melt PSF). The scope includes bi-component polyester staple fibers of any denier or cut length. The subject merchandise may be coated, usually with a finish or dye, or not coated.

Low melt PSF is classifiable under the Harmonized Tariff Schedule of the United States (HTSUS) subheading 5503.20.0015. Although the HTSUS subheading is provided for convenience and customs purposes, the written description of the scope of the orders is dispositive.

Antidumping Duty Orders

As stated above, on August 6, 2018, in accordance with sections 735(b)(1)(A)(i) and 735(d) of the Act, the ITC notified Commerce of its final determinations in these investigations, in which it found that an industry in the United States is materially injured by reason of imports of low melt PSF from Korea and Taiwan.³ The ITC also notified Commerce of its determination that critical circumstances do not exist with respect to imports of low melt PSF from Korea subject to Commerce's critical circumstances finding.⁴ Therefore, in accordance with section 735(c)(2) of the Act, we are issuing these AD orders. Because the ITC determined that imports of low melt PSF from Korea and Taiwan are materially injuring a U.S. industry, unliquidated entries of such merchandise from Korea and Taiwan, entered or withdrawn from warehouse for consumption, are subject to the assessment of antidumping duties.

³ Id.

⁴ Id.

As a result of the ITC's final determination, in accordance with section 736(a)(1) of the Act, Commerce will direct U.S. Customs and Border Protection (CBP) to assess, upon further instruction by Commerce, antidumping duties equal to the amount by which the normal value of the merchandise exceeds the export price (or constructed export price) of the merchandise, for all relevant entries of low melt PSF from Korea and Taiwan. Antidumping duties will be assessed on unliquidated entries of low melt PSF from Korea and Taiwan entered, or withdrawn from warehouse, for consumption on or after February 2, 2018, the date of publication of the preliminary determinations,⁵ but will not include entries occurring after the expiration of the provisional measures period and before publication of the ITC's final injury determination as further described below.

⁵ See Low Melt Polyester Staple Fiber from the Republic of Korea: Preliminary Determination of Sales at Less Than Fair Value, Preliminary Affirmative Determination of Critical Circumstances, in Part, Postponement of Final Determination, and Extension of Provisional Measures, 83 FR 4906 (February 2, 2018) (Korea Preliminary Determination); and Low Melt Polyester Staple Fiber from Taiwan: Preliminary Affirmative Determination of Sales at Less Than Fair Value, Postponement of Final Determination, and Extension of Provisional Measures, 83 FR 4903 (February 2, 2018) (Taiwan Preliminary Determination).

Suspension of Liquidation

In accordance with section 735(c)(1)(B) of the Act, we will instruct CBP to continue to suspend liquidation on all relevant entries of low melt PSF from Korea and Taiwan. Because the estimated weighted-average dumping margin for Huvis Corporation (Huvis) in the Korea Final Determination was zero, entries of shipments of subject merchandise both produced and exported by Huvis are not subject to suspension of liquidation or cash deposit requirements. Entries of subject merchandise exported to the United States by any other producer and exporter combination are not entitled to this exclusion from suspension of liquidation and are subject to the applicable cash deposit rates noted below. These instructions suspending liquidation will remain in effect until further notice.

We will also instruct CBP to require cash deposits equal to the amounts as indicated below. Accordingly, effective on the date of publication of the ITC's final affirmative injury determination, CBP will require, at the same time as importers would normally deposit estimated duties on this subject merchandise, a cash deposit equal to the estimated weighted-average dumping margins listed below.⁶ The relevant all-others rates apply to all producers or exporters not specifically listed, as appropriate.

⁶ See section 736(a)(3) of the Act.

Provisional Measures

Section 733(d) of the Act states that the suspension of liquidation pursuant to an affirmative preliminary determination may not remain in effect for more than four months, except where exporters representing a significant proportion of exports of the subject merchandise request Commerce to extend that four-month period to no more than six months. At the request of exporters that account for a significant proportion of low melt PSF from Korea and Taiwan, we extended the four-month period to six months in both cases.⁷ Commerce's preliminary determinations were published on February 2, 2018. Therefore, the extended period, beginning on the date of publication of the preliminary determinations, ended on August 1, 2018. Pursuant to section 737(b) of the Act, the collection of cash deposits at the rates listed below will begin on the date of publication of the ITC's final injury determination.

⁷ See Korea Preliminary Determination and Taiwan Preliminary Determination.

Therefore, in accordance with section 733(d) of the Act, Commerce will instruct CBP to terminate the suspension of liquidation and to liquidate, without regard to antidumping duties, unliquidated entries of low melt PSF from Korea and Taiwan entered, or withdrawn from warehouse, for consumption after August 1, 2018, the date on which the provisional measures expired, until and through the day preceding the date of publication of the ITC's final injury determinations in the Federal Register. Suspension of liquidation will resume on the date of publication of the ITC's final determination in the Federal Register.

Critical Circumstances

With regard to the ITC's negative critical circumstances determination regarding imports of low melt PSF from Korea, Commerce will instruct CBP to lift suspension and refund any cash deposits made to secure payment of estimated antidumping duties on subject merchandise entered, or withdrawn from warehouse, for consumption on or after November 4, 2017 (i.e., 90 days prior to the date of publication of the preliminary determinations), but before February 2, 2018 (i.e., the date of publication of the preliminary determinations).

Estimated Weighted-Average Dumping Margins

The estimated weighted-average AD margins are as follows:

Exporter/producer | Dumping margins (percent)
Korea: Huvis Corporation | 0.00
Toray Chemical Korea Inc | 16.27
All Others | 16.27
Taiwan: Far Eastern New Century Corporation | 49.93
All Others | 49.93

Notification to Interested Parties

This notice constitutes the AD orders with respect to low melt PSF from Korea and Taiwan pursuant to section 736(a) of the Act. Interested parties can find a list of AD orders currently in effect at http://enforcement.trade.gov/stats/iastats1.html.

These orders are published in accordance with section 736(a) of the Act and 19 CFR 351.211.

Dated: August 9, 2018.
James Maeder,
Associate Deputy Assistant Secretary for Antidumping and Countervailing Duty Operations performing the duties of Deputy Assistant Secretary for Antidumping and Countervailing Duty Operations.

[FR Doc. 2018-17691 Filed 8-15-18; 8:45 am]

BILLING CODE 3510-DS-P